DEPARTMENT OF AGRICULTURE

Animal and Plant Health Inspection Service

[Docket No. APHIS-2008-0140]

Changes to Treatments for Sweet Cherries from Australia and Irradiation Dose for Mediterranean Fruit Fly

AGENCY: Animal and Plant Health Inspection Service, USDA.

ACTION: Notice of changes to phytosanitary treatments.

SUMMARY: We are advising the public that we are adding new approved phytosanitary treatment schedules to the Plant Protection and Quarantine Treatment Manual for sweet cherries imported from Australia into the United States. We are also adding to the treatment manual a new approved irradiation dose for Mediterranean fruit fly of 100 gray. These new treatments will continue to prevent the introduction or interstate movement of quarantine pests in the United States.

FOR FURTHER INFORMATION CONTACT: Dr. Inder P.S. Gadh, Senior Risk Manager-Treatments, PPQ, APHIS, 4700 River Road Unit 133, Riverdale, MD 20737-1231; (301) 734-0627.

SUPPLEMENTARY INFORMATION:

Background

The phytosanitary treatments regulations contained in 7 CFR part 305 (referred to below as the regulations) set out general requirements for conducting treatments indicated in the Plant Protection and Quarantine (PPQ) Treatment Manual¹ for fruits, vegetables, and articles to prevent the introduction or dissemination of plant pests or noxious weeds into or through the United States.

¹ The PPQ Treatment Manual can be viewed on the Internet at (http://www.aphis.usda.gov/import_export/plants/manuals/ports/treatment.shtml).

On October 19, 2009, we published in the Federal Register (74 FR 53424-53430, Docket No. APHIS-2008-0140) a proposal² to amend the regulations by adding new treatment schedules for sweet cherries and for certain species of citrus fruit imported from Australia into the United States.³ We also proposed to establish an approved irradiation dose for Mediterranean fruit fly (Medfly) of 100 gray. Our analysis of the efficacy of the proposed treatments was presented in a treatment evaluation document that was made available with the proposed rule.

² To view the proposed rule, the comments we received, and the treatment evaluation document, go to (http://www.regulations.gov/fdmspublic/component/main?main=DocketDetail&d=APHIS-2008-0140).

³ The treatment schedules for citrus fruit from Australia that we had proposed will be published in the PPQ Treatment Manual at a later date. When these schedules are published, we will publish a notice of these changes in the Federal Register.

We solicited comments concerning our proposal for 60 days ending December 18, 2009, and received five comments by that date. They were from a State plant protection official, a research entomologist, a foreign national plant protection organization representative, and two students. We have carefully considered the comments we received. One commenter simply pointed out a misspelling in a footnote. The issues raised by the remaining commenters are discussed below.

One commenter, while agreeing with the changes we proposed, expressed concern that the proposal mentioned no requirement for field monitoring of fruit flies or subsequent field treatment when fruit fly populations exceed a defined limit. The commenter added that even if the treatments we propose achieve a probit-9 level of efficacy, the possibility remains that heavy infestations of fruit flies could overwhelm the treatments.

The national plant protection organization (NPPO) of Australia is a signatory to the International Plant Protection Convention (IPPC) and therefore observes IPPC guidelines for pest surveillance, monitoring, and information collection in its production areas. Should fruit fly populations increase in these areas, the Animal and Plant Health Inspection Service (APHIS) would have the information and resources readily at hand to respond effectively.

Another commenter who agreed with our proposed treatment changes asked whether the reduced irradiation dose of 100 gray we proposed as a treatment for Medfly would result in improved fruit quality and longer shelf life for sweet cherries.

We have no evidence to suggest that a 100 gray dose would result in improved fruit quality or shelf life. In fact, our experience indicates that an irradiation dose of 150 gray has no discernible positive or negative effect on fruit quality, making it less likely that a dose of 100 gray will have any such effect.

The same commenter also wanted to know if the reduced irradiation dose we proposed for Medfly would be effective for other types of fruit flies.

We have established that the 100 gray dose is effective against certain species of Anastrepha and Bactrocera fruit flies and the approved irradiation doses listed for these species in the PPQ Treatment Manual are already 100 gray or lower. For all other fruit flies of the family Tephritidae, the approved dose is 150 gray. Additional testing would be necessary to confirm whether a 100 gray dose would serve as an efficacious treatment for other species of fruit fly.

One commenter stated that the proposed treatment changes would allow the Australian cherry industry to benefit unfairly from lower treatment costs, thereby putting emerging cherry-producing countries in the Middle East such as Turkey and Iran at an economic disadvantage in the world cherry market.

The treatments discussed in the proposed rule with respect to Australia are specific to the pests present there, Medfly and Queensland fruit fly, and were evaluated with respect to their efficacy, not their costs. Cherries from another region with the same pest complex could be treated in the same manner, so we disagree that Australian cherry producers are receiving any sort of unfair benefit.

Another commenter, a representative of the Australian NPPO, observed that the State of Tasmania is not included in the areas of Australia listed by APHIS as free of fruit flies. The commenter noted that the APHIS Fruits and Vegetables Import Requirements database specifically lists cherries, apples, and pears from Tasmania as being permitted access to the United States without the requirement for a phytosanitary treatment for fruit flies. The commenter asked that Tasmania be added to APHIS’ list of approved pest-free areas.

For a given plant pest, APHIS makes a distinction between pest-free areas and areas that have never been known to support that pest in sufficient numbers to be a threat to agriculture; Tasmania is an example of the latter with regard to fruit flies. If a particular quarantine pest has never been known to be associated with the regulated article in the country or region of origin, we do not usually include that country or region on the list of pest-free areas for that pest. Because the cooler climate and geographical isolation of Tasmania inhibit a resident fruit fly population from establishing itself there, we do not consider it necessary to include Tasmania on the list of approved pest-free areas.

Revision of Treatments Regulations

Following the publication of our October 2009 proposed rule, we published a final rule that amended the regulations by removing all phytosanitary treatments and treatment schedules from 7 CFR part 305, while retaining general treatment requirements.⁴ The sections in part 305 we had proposed to amend no longer exist, so the modified treatments will instead be added to the appropriate sections of the PPQ Treatment Manual. The regulations now indicate that all approved treatments and treatment schedules are contained in the PPQ Treatment Manual.

⁴ 75 FR 4228-4253, Docket No. APHIS-2008-0022, published January 26, 2010, and effective February 25, 2010.

Accordingly, the PPQ Treatment Manual has been amended to include the new treatments for sweet cherries from Australia and a specific irradiation dose of 100 gray for Medfly.

Authority: 7 U.S.C. 7701-7772 and 7781-7786; 21 U.S.C. 136 and 136a; 7 CFR 2.22, 2.80, and 371.3.

Done in Washington, DC, this 29th day of July 2010.

Kevin Shea
Acting Administrator, Animal and Plant Health Inspection Service.

[FR Doc. 2010-19135 Filed 8-3-10; 10:12 am]

BILLING CODE 3410-34-S